DEPARTMENT OF LABOR

Employment and Training Administration

[NAFTA-5832]

Pittsburgh Annealing Box Company, LLC, Pittsburgh, PA; Notice of Negative Determination Regarding Application for Reconsideration

By application dated April 16, 2002, the company requested administrative reconsideration of the Department's negative determination regarding eligibility to apply for North American Free Trade Agreement-Transitional Adjustment Assistance (NAFTA-TAA), applicable to workers and former workers of the subject firm. The denial notice was signed on March 25, 2002, and was published in the Federal Register on April 5, 2002 (67 FR 16442).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The denial of NAFTA-TAA for workers engaged in activities related to the production of annealing inner covers at Pittsburgh Annealing Box Company, LLC, Pittsburgh, Pennsylvania, was based on the finding that criteria (3) and (4) of the group eligibility requirements of paragraph (a)(1) of section 250 of the Trade Act, as amended, were not met. There were no company imports of annealing inner covers from Mexico or Canada, nor did the subject firm shift production from Pittsburgh, Pennsylvania to Mexico or Canada. The survey conducted by the Department of Labor revealed no increase in customers' purchases of annealing inner covers from Canada or Mexico during the period of sales declines at the subject plant.

The petitioner alleges that increased imports of semi-processed steel from Mexico adversely affected the business of their customers. The petitioner further states that these imports have displaced tonnage that the subject firm's customers would have produced and thus reduced the need for the product produced by the subject plant (annealing inner covers).

Semi-processed steel imports into the United States are not relevant to the TAA petition that was filed on behalf of workers producing annealing inner covers. The product imported must be “like or directly” competitive with what the subject plant produced and the imports must “contribute importantly” to the layoffs at the subject plant to meet the eligibility requirements for adjustment assistance under section 250(a) of the Trade Act of 1974, as amended. Further examination of the facts developed in the initial investigation show that company imports and customer imports of annealing inner covers did not “contribute importantly” to the layoffs at the subject plant.

Conclusion

After review of the application and investigative findings, I conclude that there has been no error or misinterpretation of the law or of the facts which would justify reconsideration of the Department of Labor's prior decision. Accordingly, the application is denied.

Signed at Washington, DC this 30th day of May, 2002.
Edward A. Tomchick,
Director, Division of Trade Adjustment Assistance.

[FR Doc. 02-14792 Filed 6-11-02; 8:45 am]

BILLING CODE 4510-30-P